DEPARTMENT OF THE INTERIOR

National Park Service

Proposed Leasehold Surrender Interest Guide

AGENCY: National Park Service, Interior.

ACTION: Notice.

SUMMARY: The National Park Service (NPS) invites public comments on its proposed Leasehold Surrender Interest (LSI) Guide. The proposed LSI Guide discusses methodologies for estimating the LSI value of capital improvements constructed, installed or acquired by a concessioner pursuant to the terms of a NPS concession contract.

DATES: Public comments will be accepted on or before May 18, 2012.

ADDRESSES: Copies of the proposed LSI Guide are available for review or download at http://concessions.nps.gov/index.htm. Send comments to Ms. Jo A. Pendry, Chief, Commercial Services Program, National Park Service, 1201 Eye Street NW., 11th Floor, Washington, DC 20005 or via email at jo_pendry@nps.gov or via fax at 202/371-2090.

FOR FURTHER INFORMATION CONTACT: Deborah Harvey, Asset Management Branch Chief, 202-513-7150.

Before including your address, phone number, email address, or other identifying information in your comment, you should be aware that your entire comment—including your personal identifying information—may be made publicly available at any time. While you can ask us in your comment to withhold your personal identifying information from public review, we cannot guarantee that we will be able to do so.

SUPPLEMENTARY INFORMATION: Pursuant to the NPS Concessions Management Improvement Act of 1998 (Pub. L. 105-391; 36 CFR part 51), the proposed LSI Guide provides information regarding LSI terms and concepts and discusses the various types of capital improvements eligible for LSI, including a table listing types of equipment and materials used in real property improvements that may or may not be classified as fixtures. The proposed LSI Guide also includes discussion of how to estimate LSI values, including the effects of inflation and depreciation. The proposed LSI Guide is not intended to describe all LSI requirements or circumstances. The proposed LSI Guide does not adopt requirements or policy for the National Park Service or National Park Service concessioners.

Dated: March 7, 2012.
Jo A. Pendry,
Chief, Commercial Services Program.

[FR Doc. 2012-9264 Filed 4-17-12; 8:45 am]

BILLING CODE P